DEPARTMENT OF TRANSPORTATION

Federal Aviation Administration

RTCA; Special Committee 135; Environmental Conditions and Test Procedures for Airborne Equipment

Pursuant to section 10(a) of the Federal Advisory Committee Act (Pub. L. 92-463, 5 U.S.C., Appendix 2), notice is hereby given for Special Committee (SC)-135 meeting to be held August 17-18, 2000, starting at 9:00 a.m. The meeting will be held at RTCA, 1140 Connecticut Avenue, NW., Suite 1020, Washington, DC, 20036.

The agenda will include: January 17, (1) Welcome and Introductory Remarks; (a) Review Summary of Previous Meeting; (3) Review/Approval Section 8, RTCA Paper No. 163-00/SC135-593, Vibration; (4) Review/Approval Section 20, RTCA Paper No. 164-00/SC135-594, Radio Frequency Susceptibility (Radiated and Conducted); (5) Review/Approval Section 16; Tentative; (6) Review Schedule for Release of DO-160D/ED-14D, Change 1 to Environmental Conditions and Test Procedures for Airborne Equipment; (7) Consider a Schedule for Next Complete Update—DO-160E/ED-14E; (8) Other Business (9) Date and Location for Next Meeting; (9) Closing.

Attendance is open to the interested public but limited to space availability. With the approval of the chairman, members of the public may present oral statements at the meeting. Persons wishing to present statement or obtain information should contact the RTCA Secretariat, 1140 Connecticut Avenue, NW., Suite 1020, Washington, DC, 20036; (202) 833-9339 (phone); (202) 833-9434 (fax); or http://www.rtca.org (web site). Members of the public may present a written statement to the committee at any time.

Issued in Washington, DC, on July 27, 2000.
Janice L. Peters,
Designated Official.

[FR Doc. 00-19530 Filed 8-1-00; 8:45 am]

BILLING CODE 4910-13-M